EXPORT-IMPORT BANK

2019 EXIM Bank Sub-Saharan Africa Advisory Committee Nomination Process

Nominations are now being accepted for EXIM Bank's 2019 Sub-Saharan Africa Advisory Committee. The Congressionally-established Sub-Saharan Africa Advisory Committee holds bi-annual meetings in which its primary task is to advise the Bank concerning its policy and programs, in particular on the extent to which the Bank is supporting the expansion of the its financial commitments in sub-Saharan Africa under its loan, guarantee, and insurance programs. Pending approval by EXIM's Board of Directors, the first meeting of the 2019 Sub-Saharan Africa Advisory Committee is scheduled to be held in October 2019.

The nomination period will be open for five weeks beginning Friday, June 21, 2019-Wednesday, July 24, 2019.

Companies and supporters of potential nominees must submit a letter on company letterhead stating reasons why their candidate should be considered for the Sub-Saharan Africa Advisory Committee. Self-nominations are permitted. All nomination forms must be completed and signed by all potential candidates. The candidate questionnaire form can be found at: https://www.exim.gov/about/leadership/sub-saharan-africa-advisory-committee.

All nominations are due COB Wednesday, July 24, 2019. Please email the candidate questionnaire form and additional information including supporter letters on letterhead to: external@exim.gov.

Joyce Brotemarkle Stone,
Assistant Corporate Secretary.

[FR Doc. 2019-13105 Filed 6-20-19; 8:45 am]

BILLING CODE 6690-01-P